DEPARTMENT OF HEALTH AND HUMAN SERVICES

National Institutes of Health

National Cancer Institute; Amended Notice of Meeting

Notice is hereby given of a change in the meeting of the National Cancer Institute Special Emphasis Panel, March 24, 2009, 8 a.m. to March 24, 2009, 5 p.m., Gaithersburg Hilton, 620 Perry Parkway, Gaithersburg, MD, 20877 which was published in the Federal Register on January 29, 2009, 74FR5171.

The meeting notice is changed to reflect the date change from March 24, 2009 to April 2, 2009. The meeting is closed to the public.

Dated: February 10, 2009.
Jennifer Spaeth,
Director, Office of Federal Advisory Committee Policy.

[FR Doc. E9-3308 Filed 2-13-09; 8:45 am]

BILLING CODE 4140-01-P